DEPARTMENT OF HEALTH AND HUMAN SERVICES

Centers for Medicare & Medicaid Services

[Document Identifier: CMS-10398 #43]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by December 10, 2025.

ADDRESSES: When commenting, please reference the applicable form number (CMS-10398 #43) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #43/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRAListing.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collections

1. Title of Information Collection: Certified Community Behavioral Health Clinic (CCBHC) Cost Report; Type of Information Collection Request: Revision of an active collection of information request; Use: The CCBHC cost report allows clinics in the demonstration to calculate PPS rates using clinic-specific cost and visit data associated with delivery of the 9 statutory services as outlined under the authorizing PAMA at section 223(D) Scope of Services. CCBHCs used the cost report to calculate rates based on the existing CC PPS-1 daily, or CC PPS-2 monthly rate that did not include separate crisis rate options. Calculation of the new daily and monthly special crisis services PPS rates required CMS to revise the existing CCBHC cost report to include the addition of worksheets to address the new crisis rate offerings that were finalized in the February 2024 CCBHC Technical Guidance. Special crisis services (SCS) rates were made effective January 1, 2024, for any existing states that are interested in implementing either CC PPS-3 or CC PPS-4. New states entering the program beginning in July 2024 have the option to choose from among the four PPS rate options made available under the 2024 Technical Guidance and CCBHC cost report.

CCBHCs in states that choose the CC PPS-2 rate methodology will require additional time to gather data for special populations and account for outlier thresholds. States and clinics selecting either the CC PPS-3 or CC PPS-4 crisis rate methodology will require additional time to separate costs and visit data for up to three special crisis services rates.

Because use of the cost report involves participation in the CCBHC demonstration program, the information is expected to be collected annually, assuming rates are trended forward for the second year of the program using the Medicare Economic Index (MEI), rebased in the third year of the demonstration and trended forward for the fourth year of the demonstration using the MEI. However, if the state requires CCBHCs to rebase rates for other years of the demonstration using CCBHC cost report data, the provider would be required to complete the cost report each time the state rebases the rate. CMS does also require CCBHC demonstration states to submit cost reports in trended years although rates may only reflect changes based on MEI adjustment for inflationary changes. The state should indicate if the current cost report is used to rebase for the rate period or the rate that will be paid during the rate period if the rate changes solely by an MEI adjustment.

Form Number: CMS-10398 #43 (OMB control number: 0938-1148); Frequency: Annual; Affected Public: Private Sector and State, Local, or Tribal Governments; Number of Respondents: 242; Total Annual Responses: 440; Total Annual Hours: 21,909. (For policy questions regarding this collection contact: Beverly Boston at 410-786-4186.)

William N. Parham, III,
Director, Division of Information Collections and Regulatory Impacts, Office of Strategic Operations and Regulatory Affairs.

[FR Doc. 2025-21124 Filed 11-25-25; 8:45 am]

BILLING CODE 4120-01-P